COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds to the Procurement List a commodity and services to be furnished by nonprofit agencies employing persons who are blind or have other severe disabilities, and deletes from the Procurement List commodities previously furnished by such agencies.

EFFECTIVE DATE: April 3, 2000.

ADDRESSES: Committee for Purchase From People Who Are Blind or Severely Disabled, Crystal Gateway 3, Suite 310, 1215 Jefferson Davis Highway, Arlington, Virginia 22202-4302.

FOR FURTHER INFORMATION CONTACT: Louis R. Bartalot (703) 603-7740.

SUPPLEMENTARY INFORMATION: On October 22, November 5, and December 27, 1999 and January 7, 14, and 21, 2000, the Committee for Purchase From People Who Are Blind or Severely Disabled published notices (64 FR 57031, 60407 and 72312, and 65 FR 2373, 2374, and 3416) of proposed additions to and deletions from the Procurement List:

Additions

The following comments pertain to Holder, Card, 7510-00-155-5174: Comments were received from the current contractor for the card holder. The contractor claimed that it had given up many items to the Committee's Procurement List and asked the Committee not to take this one as well. The contractor also claimed that the card holder would create little labor for people with severe disabilities and would cause the contractor to lose its investment in tooling for the project, as the contractor claimed there is little demand for the card holder in the commercial market.

As the contractor noted, it has a partnership with a nonprofit agency producing items now on the Procurement List which the contractor formerly produced for the Government. This partnership permits the contractor to supply materials for the items to the nonprofit agency, thus essentially negating the impact of that Procurement List addition on the contractor. The only other item being produced by the contractor for the Government which the Committee has added to the Procurement List in recent years, a tape dispenser, represented only a very small percentage of the contractor's total sales, as does the card holder now at issue. The contractor has not given the Committee information to indicate that loss of use of the card holder tooling would severely impact the company. Addition of the card holder to the Procurement List will generate nearly two work years of employment for blind workers, whose unemployment rate far exceeds that of workers without severe disabilities. Taking all these factors into account, the Committee has concluded that it is very unlikely that the contractor will suffer a severe adverse impact as a result of adding the card holder to the Procurement List.

The following comments pertain to Cutting and Assembly of FTESFB System for P-3 Aircraft, 1560-00-NSH-0001, Department of the Navy, Fleet and Industrial Supply Center, Jacksonville, Florida: Comments were received from the last contractor for this service telling the Committee it had to assess impact on the contractor. The contracting activity indicated its intent to procure this service through the Small Business Administration's 8(a) Program if the service is not added to the Procurement List. Because the commenting contractor has graduated from the 8(a) Program, it would not be eligible to receive a contract for this service. Consequently, addition of this service to the Procurement List will not be the cause of any impact this contractor may experience from not receiving a contract for this service.

The following material pertains to all of the items being added to the Procurement List: After consideration of the material presented to it concerning capability of qualified nonprofit agencies to provide the commodity and services and impact of the additions on the current or most recent contractors, the Committee has determined that the commodity and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodity and services to the Government.

2. The action will not have a severe economic impact on current contractors for the commodity and services.

3. The action will result in authorizing small entities to furnish the commodity and services to the Government.

4. There are no known regulatory alternatives which would accomplish the objectives of the Javits-Wagner-O'Day Act (41 U.S.C. 46-48c) in connection with the commodity and services proposed for addition to the Procurement List.

Accordingly, the following commodity and services are hereby added to the Procurement List:

Commodity

Holder, Card, 7510-00-155-5174.

Services

Base Supply Center, Detroit Arsenal, Warren, Michigan.

Commissary Shelf Stocking, Custodial and Warehousing, Hanscom Air Force Base, Massachusetts.

Cutting and Assembly of FTESFB System for P-3 Aircraft, 1560-00-NSH-0001, Department of the Navy, Fleet and Industrial Supply Center, Jacksonville, Florida.

Grounds Maintenance, U.S. Army Reserve Center, 682 Main Street, Keene, New Hampshire.

Grounds Maintenance at the following locations: U.S. Army Reserve Center, 70 Rochester Hill Road, Rochester, New Hampshire, U.S. Army Reserve Center, 125 Cottage Street, Portsmouth, New Hampshire.

Telephone Switchboard Operations, Department of Veterans Affairs Medical Center, 50 Irving Street, NW, Washington, DC.

Warehouse Operation, 2031 Idorek Street, Building 783 S and T, McClellan AFB, California.

This action does not affect current contracts awarded prior to the effective date of this addition or options that may be exercised under those contracts.

Deletions

I certify that the following action will not have a significant impact on a substantial number of small entities. The major factors considered for this certification were:

1. The action may not result in any additional reporting, recordkeeping or other compliance requirements for small entities.

2. The action will not have a severe economic impact on future contractors for the commodities.

3. The action may result in authorizing small entities to furnish the commodities to the Government.

4. There are no known regulatory alternatives which would accomplish the objectives of the Javits-Wagner-O'Day Act (41 U.S.C. 46-48c) in connection with the commodities deleted from the Procurement List.

After consideration of the relevant matter presented, the Committee has determined that the commodities listed below are no longer suitable for procurement by the Federal Government under 41 U.S.C. 46-48c and 41 CFR 51-2.4.

Accordingly, the following commodities are hereby deleted from the Procurement List:

Pen, Twist Action, Blue and Black Ink

M.R. 040 (Black Ink)

M.R. 041 (Blue Ink)

Bag, Tote, Canvas

M.R. 511

M.R. 512

M.R. 513

Sweatshirt and Sweatpants, Private Label

M.R. 630 (Sweatshirt)

M.R. 631 (Sweatpants)

M.R. 632 (Sweatshirt)

M.R. 633 (Sweatpants)

Sweatshirt and Sweatpants, Recruit, USMC

M.R. 640 (Sweatshirt)

M.R. 641 (Sweatshirt)

M.R. 642 (Sweatshirt)

M.R. 643 (Sweatshirt)

M.R. 644 (Sweatshirt)

M.R. 645 (Sweatpants)

M.R. 646 (Sweatpants)

M.R. 647 (Sweatpants)

M.R. 648 (Sweatpants)

M.R. 649 (Sweatpants)

Sweatsuit, Recruit, Marine Corps

M.R. 650 (Sweatshirt)

M.R. 651 (Sweatshirt)

M.R. 652 (Sweatshirt)

M.R. 653 (Sweatshirt)

M.R. 654 (Sweatshirt)

M.R. 655 (Sweatpants)

M.R. 656 (Sweatpants)

M.R. 657 (Sweatpants)

M.R. 658 (Sweatpants)

M.R. 659 (Sweatpants)

Desk, Lap

M.R. 750

Mitt, Barbecue

M.R. 891

Mop, Stick, Rayon Head, Wet

M.R. 927

Broom, Fiber

M.R. 952

Broom, Patio

M.R. 954

Filter, Air Conditioning

4130-00-951-1208

Aerosol Paint, Lacquer

8010-00-598-5455

Enamel, Lacquer

8010-00-133-5901

8010-00-702-1053

8010-00-181-7791

8010-00-664-1914

8010-00-851-5525

Aerosol Paint, Lacquer

8010-00-958-8150

8010-00-721-9750

8010-00-721-9753

8010-00-141-2951

8010-00-883-5329

8010-00-515-2487

8010-00-965-2391

8010-00-721-9749

8010-00-721-9754

8010-00-721-9748

8010-00-835-7215

8010-00-965-2390

8010-00-141-2958

8010-00-079-2756

8010-00-721-9746

8010-00-721-9745

8010-00-079-2754

8010-00-958-8151

Enamel

8010-01-060-6461

8010-00-935-7156

8010-01-332-3735

8010-01-336-5064

8010-01-332-3740

8010-01-331-6118

8010-01-336-5065

8010-01-333-1441

8010-01-336-3979

8010-01-336-5059

8010-01-336-3977

8010-01-336-5058

8010-01-336-5060

8010-01-332-3746

8010-01-332-3738

8010-01-332-3737

8010-01-332-3741

8010-01-332-3736

8010-01-363-3374

8010-01-363-3373

Enamel, Aerosol, Waterbase

8010-01-350-5259

8010-01-350-5256

8010-01-350-6258

8010-01-350-4757

8010-01-350-4749

8010-01-350-5261

8010-01-350-5253

8010-01-350-4750

8010-01-350-4751

8010-01-350-4756

8010-01-350-4758

8010-01-350-4764

8010-01-350-5246

8010-01-350-5250

8010-01-350-5252

8010-01-350-6257

8010-01-350-5260

8010-01-350-4763

8010-01-363-1631

8010-01-363-1633

Louis R. Bartalot,
Deputy Director (Operations).

[FR Doc. 00-5205 Filed 3-2-00; 8:45 am]

BILLING CODE 6353-01-P